DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel Sepsis and CAP: Partnerships for Diagnostics Development.

Date: March 21-22, 2005.

Time: 8 a.m. to 6 p.m.

Agenda: To review and evaluate grant applications.

Place: Bethesda Marriott Suites, 6711 Democracy Boulevard, Bethesda, MD 20817.

Contact Person: Stefani T. Rudnick, PhD, Scientific Review Administrator, Scientific Review Program, Division of Extramural Activities, National Institutes of Health/NIAID, 6700B Rockledge Drive, MSC 7616, Bethesda, MD 20892-7616, 301-496-2550, srudnick@niaid.nih.gov.

Name of Committee: National Institute of Allergy and Infectious Diseases Special Emphasis Panel Hepatitis C Cooeprative Research Centers.

Date: March 23-25, 2005.

Time: 8 a.m. to 6 p.m.

Agenda: To review and evaluate grant applications.

Place: Holiday Inn Georgetown, 2101 Wisconsin Avenue, NW., Washington, DC 20007.

Contact Person: Gerald L. McLaughlin, PhD, Scientific Review Administrator, Scientific Review Program, Division of Extramural Activities, National Institutes of Health/NIAID, 6700B Rockledge Drive, MSC 7616, Bethesda, MD 20892-7616, 301-435-2766, gm145a@nih.gov.

Name of Committee: National Institutes of Allergy and Infectious Diseases Special Emphasis Panel Novel HIV Therapeutics: Integrated Preclinical/Clinical Program (IPCP).

Date: March 23-25, 2005.

Time: 8:30 a.m. to 5 p.m.

Agenda: To review and evaluate grant applications.

Place: Holiday Inn Silver Spring, 8777 Georgia Avenue, Silver Spring, MD 20910.

Contact Person: Tracy A. Shahan, PhD, Scientific Review Adminsitrator, Scientific Review Program, Divison of Extramural Activities, National Institutes of Health/NIAID, 6700B Rockledge Drive, MSC 7616, 301-496-2606, tshahan@niaid.nih.gov.

Name of Committee: National Institute of Allergy and Infectious Diseases Special Emphasis Panel Disorders of Therapeutic Immunosuppression.

Date: March 23, 2005.

Time: 1 p.m. to 4 p.m.

Agenda: To review and evaluate grant applications.

Place: National Institutes of Health, Rockledge 6700, 6700B Rockledge Drive, 3147, Bethesda, MD 20817, (Telephone Conference Call).

Contact Person: Duane Price, PhD, Scientific Review Administrator, NIAID, DEA, Scientific Review Program, Room 2217, 6700B, Rockledge Drive, MSC 7616, Bethesda, MD 20892-7616, (301) 496-2550; dprice@niaid.nih.gov.

Name of Committee: National Institute of Allergy and Infectious Diseases Emphasis Panel “Animal Models for the Prevention and Treatment of Hepatitis B and Hepatitis C.”

Date: March 24, 2005.

Time: 8 a.m. to 5 p.m.

Agenda: To review and evaluate contract proposals.

Place: Holiday Inn Chevy Chase, 5520 Wisconsin Avenue, Chevy Chase, MD 20815.

Contact Person: Lucy A. Ward, DVM, Scientific Review Administrator, Scientific Review Program, Division of Extramual Activities, National Institutes of Health/NIAID, 6700B Rockledge Drive, Room 3117, Bethesda, MD 20892-7616, (301) 496-2550; lw275a@nih.gov.

Name of Committee: National Institute of Allergy and Infectious Diseases Special Emphasis Panel IPCP.

Date: March 31, 2005.

Time: 8:30 a.m. to 5 p.m.

Agenda: To review and evaluate grant applications.

Place: Double Tree Rockville, 1750 Rockville Pike, Rockville, MD 20852.

Contact Person: Tracy A. Shahan, PhD, Scientific Review Administrator, Scientific Review Program, Division of Extramual Activities, National Institutes of Health/NIAID, 6700B Rockledge Drive, MSC 7616, Bethesda, MD 20892-7616, (301) 496-2606; tshahan@niaid.nih.gov.

(Catalogue of Federal Domestic Assistance Program Nos. 93.855, Allergy, Immunology, and Transplantation Research; 93.856, Microbiology and Infectious Diseases Research, National Institutes of Health, HHS.)
Dated: March 1, 2005.
Anna P. Snouffer,
Acting Director, Office of Federal Advisory Committee Policy.

[FR Doc. 05-4487 Filed 3-7-05; 8:45 am]

BILLING CODE 4140-01-M